DEPARTMENT OF LABOR

Employment and Training Administration

[TA-W-63,718]

Martinrea Heavy Stamping Division, Shelbyville, KY; Notice of Termination of Investigation

Pursuant to Section 221 of the Trade Act of 1974, as amended, an investigation was initiated on July 21, 2008 in response to a petition filed by a One-Stop office on behalf of workers of Martinrea, Heavy Stamping Division, Shelbyville, Kentucky.

The Department determined that the petitioner was not a One-Stop operator or partner but rather a former worker. A petition filed by workers must be completed and signed by three affected workers. Accordingly, the petition is deemed invalid and the investigation under this petition is terminated.

Signed at Washington, DC, this 21st day of August, 2008
Linda G. Poole,
Certifying Officer, Division of Trade Adjustment Assistance.

[FR Doc. E8-20342 Filed 9-2-08; 8:45 am]

BILLING CODE 4510-FN-P